DEPARTMENT OF TRANSPORTATION

Federal Motor Carrier Safety Administration

[Docket No. FMCSA 2015-0508]

Agency Information Collection Activities; Extension of a Currently-Approved Collection: Driver Qualification Files

AGENCY: Federal Motor Carrier Safety Administration (FMCSA), DOT.

ACTION: Notice and request for comments.

SUMMARY: In accordance with the Paperwork Reduction Act of 1995 (PRA), FMCSA announces its plan to submit the Information Collection Request (ICR) described below to the Office of Management and Budget (OMB) for its review and approval and invites public comment. On February 17, 2016, FMCSA published a Federal Register notice announcing an increase in the Agency's estimate of the total information-collection (IC) burden of the driver qualification (DQ) regulations. It explained that the Agency's regulations had not changed, but the Agency was increasing its estimate of the IC burden to 9.8 million hours because both the population of CMV drivers and the frequency of their hiring had increased. Today the Agency further increases its burden estimate to 10.21 million hours in response to a comment received to that notice.

DATES: Please send your comments to this notice by August 10, 2016. OMB must receive your comments by this date to act quickly on the ICR.

ADDRESSES: All comments should reference Federal Docket Management System (FDMS) Docket Number FMCSA-2015-0508. Interested persons are invited to submit written comments on the proposed information collection to the Office of Information and Regulatory Affairs, Office of Management and Budget. Comments should be addressed to the attention of the OMB Desk Officer, DOT/FMCSA, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Mr. Robert F. Schultz, FMCSA Driver and Carrier Operations Division, DOT, FMCSA, West Building, 6th Floor, 1200 New Jersey Avenue SE., Washington, DC 20590. Telephone: 202-366-4325. Email: MCPSD@dot.gov.

SUPPLEMENTARY INFORMATION:

Title: Driver Qualification Files.

OMB Control Number: 2126-0004.

Type of Request: Extension of a currently-approved information collection.

Respondents: Motor carriers and drivers of commercial motor vehicles.

Estimated Number of Respondents: 6.2 million (5.7 million drivers and .5 million motor carriers.

Estimated Time per Response: 35 minutes (average).

Expiration Date: July 31, 2016.

Frequency of Response: Responses to some regulatory requirements of the driver qualification rules occur on a random basis. Other responses occur more predictably. Some responses recur; others do not. For example, motor carriers are required to obtain and review the motor vehicle driving record of their drivers from the State of licensure. They must complete this task at the time of hiring and every year thereafter. The time-of-hiring requirement results in a random frequency of response, but, thereafter, the annual requirement results in a fixed frequency of response.

Estimated Total Annual Burden: 10.21 million hours.

Background

The Motor Carrier Safety Act of 1984 [Pub. L. 98-554, Title II, 98 Stat. 2834 (October 30, 1984)] requires the Secretary of Transportation to issue regulations pertaining to commercial motor vehicle (CMV) safety. These regulations are also issued under the authority provided by 49 U.S.C. 504, 31133, 31136, and 31502. Part 391 of volume 49 of the Code of Federal Regulations contains the minimum qualifications of drivers of CMVs in interstate commerce.

Motor carriers may not require or permit an unqualified driver to operate a CMV. The foremost proof of driver qualification is the information that part 391 requires be collected and maintained in the driver qualification file (DQ file). Motor carriers must obtain this information from sources specified in the regulations (49 CFR 391.51), such as the driver, previous employers of the driver, and officials of the State of driver licensure. Motor carriers are not required to forward DQ information to FMCSA, but must maintain the information in a DQ file and make it available to State and Federal safety investigators on demand.

The Agency is asking OMB to approve FMCSA's revised estimate of the paperwork burden imposed by its DQ file regulations. The regulations have not been amended; the information-collection (IC) burden imposed on individual drivers and motor carriers by the regulations is unchanged. However, the Agency has increased its estimate of the total IC burden of the DQ-file regulations because both the number of CMV drivers and the turnover rate in their hiring have increased since the Agency's 2012 estimate of this burden. The increase in the number of CMV drivers is partly the result of the Agency being directed by OMB to include intrastate as well as interstate drivers in the population of drivers incurring an IC burden under the DQ file regulations. The Agency had excluded intrastate drivers from a past estimate.

The Agency received one comment to the 60-day Federal Register notice of February 17, 2016. The American Trucking Associations pointed out that FMCSA estimates did not account for the substantial portion of driver medical certificates that are not issued for the maximum two-year period. Accordingly, FMCSA has adjusted its estimate for this element of the burden. The overall burden, formerly estimated to be 9.8 million hours, is now estimated to be 10.21 million hours.

ATA also asked that Agency estimates account for the burden of a practice it described as common among motor carriers. These carriers refer newly-hired drivers for medical examination even if their current medical certificate is still valid. This practice triggers the requirement of § 391.51(b)(7)(ii) that motor carriers obtain the results of each medical examination of its CDL drivers from the State Driver Licensing Agency (SDLA). The medical status of CDL drivers is a part of the driver's motor vehicle record (MVR) maintained by the SDLA. ATA asked the Agency to account for the burden these carriers experience obtaining the MVRs of their newly-hired CDL drivers. The Agency cannot do so because the burden is not cognizable under the PRA. The PRA requires Agencies to estimate burdens imposed by their regulatory requirements but these medical examinations of newly hired drivers are not required by regulation. These motor carriers are voluntarily referring newly-hired CDL drivers for a new medical examination.

Public Comments Invited

FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued under the authority delegated in 49 CFR 1.87 on: June 30, 2016.
G. Kelly Regal,
Associate Administrator, Office of Research and Information Technology.

[FR Doc. 2016-16313 Filed 7-8-16; 8:45 am]

BILLING CODE 4910-EX-P